DEPARTMENT OF THE INTERIOR

Bureau of Land Management

[BLM_NV_FRN_MO#4500179583]

Notice of Application for Withdrawal Extension for Base Camp and Opportunity for Public Meeting; Nevada

AGENCY: Bureau of Land Management, Interior.

ACTION: Notice.

SUMMARY: The United States Air Force (USAF) has filed an application requesting that the Secretary of the Interior extend the withdrawal established by Public Land Order (PLO) No. 7634 for an additional 20-year period. PLO No. 7634 withdrew 1,979 acres of public lands from settlement, sale, location, or entry under the general land laws, including the United States mining laws, but not from leasing under the mineral leasing laws, subject to valid existing rights, for a period of 20 years and reserved the land for use by the USAF to protect support facilities for the safe and secure operation of national defense activities at the Nevada Test and Training Range (NTTR). This notice advises the public of a 90-day opportunity to comment on the withdrawal extension application and to request a public meeting.

DATES: Comments and request for a public meeting must be received by November 13, 2024.

ADDRESSES: All comments and meeting requests should be sent to the Bureau of Land Management (BLM) Nevada State Office, 1340 Financial Blvd., Reno, NV 89502. Also, comments will be available for public review at the Tonopah Field Office, P.O. Box 911 (1553 South Main Street), Tonopah, NV 89049, during regular business hours 8:00 a.m. to 4:00 p.m., Monday through Friday, except holidays.

FOR FURTHER INFORMATION CONTACT: Edison Garcia, Land Law Examiner, Nevada State Office, at (775) 861-6530, email: egarcia@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The withdrawal established by PLO No. 7634 on May 6, 2005 (70 FR 24114) will expire on May 5, 2025. The purpose of the withdrawal and reservation is for the USAF to protect support facilities for the safe and secure operation of national defense activities at the NTTR. The purpose for this withdrawal warrants its extension.

The legal land description and acreage figure described in PLO No. 7634 is revised herein to reflect the BLM Cadastral Survey's Specification for Descriptions of Land. The revised land description does not change the footprint of the lands originally withdrawn by PLO No. 7634.

The 1,979 acres of public lands are located in central Nye County, approximately 60 miles east of Tonopah, Nevada. Public access to these lands has been restricted since the 1960s. Recreation, mining, and other uses are open on public lands surrounding the 1,979 acres. The 1,979 acres withdrawn by PLO No. 7634 are legally described as:

Mount Diablo Meridian, Nevada

A parcel of land situated in T. 5 N., R. 50 E., partially unsurveyed, T. 5 N., R. 51 E., and T. 6 N., R. 51 E., and being more particularly described as follows:

From the northwest corner of section 12, T. 5 N., R. 50 E.,

Proceed southeast 1,874.10 feet on a bearing of 155°48′00″ to starting point;

Thence southeast 5,551.20 feet on a bearing of 122°54′00″;

Thence northeast 15,530.30 feet on a bearing of 33°18′00″;

Thence northwest 5,551.20 feet on a bearing of 302°54′00″;

Thence southwest 15,530.30 feet on a bearing of 213°18′00″ to the starting point, excepting Tybo Road.

The area described contains approximately 1,979 acres.

There is no suitable alternative site.

No water rights would be needed to fulfill the purpose of this withdrawal extension.

Before including your address, phone number, email address, or other personal identifying information in your comment, you should be aware that your entire comment—including your personally identifiable information—may be made publicly available at any time. While you may ask the BLM in your comment to withhold your personal identifying information from public review, we cannot guarantee that we will be able to do so.

Notice is hereby given that an opportunity for a public meeting is afforded in connection with the application for withdrawal extension. All interested persons who desire a public meeting for the purpose of being heard on the USAF application must submit a written request to the State Director, BLM Nevada State Office, at the address in the ADDRESSES section, within 90 days from the date of publication of this notice. If the authorized officer determines that a public meeting will be held, a notice of the date, time, and place will be published in the Federal Register, local newspapers, and on the BLM website at www.blm.gov at least 30 days before the scheduled date of the meeting.

This withdrawal extension application will be processed in accordance with the regulations set forth in 43 CFR 2310.4.

(Authority: 43 CFR 2310.4)

Jon K. Raby,
State Director.

[FR Doc. 2024-18314 Filed 8-14-24; 8:45 am]

BILLING CODE 4331-21-P